NATIONAL COUNCIL ON DISABILITY

Sunshine Act Meetings

TIME AND DATES: The Members of the National Council on Disability (NCD) will meet by phone on Wednesday, February 1, 2012, 3:00-4 p.m., ET.

PLACE: The meeting will occur by phone. NCD staff will participate in the call from the NCD office at 1331 F Street NW., Suite 850, Washington, DC 20004. Interested parties may join the meeting in person at the NCD office or may join the phone line in a listening-only capacity using the following call-in number: 1-(888) 466-4440; Meeting Name: NCD Meeting. If asked, the conference call leader's name is Aaron Bishop.

MATTERS TO BE CONSIDERED: The Council will meet by phone for deliberations regarding disability forums.

CONTACT PERSON FOR MORE INFORMATION: Anne Sommers, NCD, 1331 F Street NW., Suite 850, Washington, DC 20004; (202) 272-2004 (V), (202) 272-2074 (TTY).

ACCOMMODATIONS: Those who plan to attend and require accommodations should notify NCD as soon as possible to allow time to make arrangements.

Dated: January 25, 2012.
Aaron Bishop,
Executive Director.

[FR Doc. 2012-1935 Filed 1-25-12; 4:15 pm]

BILLING CODE 6820-MA-P